DEPARTMENT OF ENERGY

Federal Energy Regulatory Commission

[Docket No. EL01-123-000]

Mirant Americas Energy Marketing, L.P., Mirant New England, LLC, Mirant Kendall, LLC, Mirant Canal, LLC and Calpine Eastern Corporation v. ISO New England Inc.; Notice of Complaint

October 2, 2001.

Take notice that on September 28, 2001, Mirant Americas Energy Marketing, L.P., Mirant New England, LLC, Mirant Kendall, LLC, Mirant Canal, LLC and Calpine Eastern Corporation (collectively, the Joint Complainants) tendered for filing a complaint pursuant to Sections 206 and 306 of the Federal Power Act against ISO New England Inc. (ISO-NE) in connection with ISO-NE's implementation of a two-week cure period for installed capacity deficiencies.

The Joint Complainants have served copies of the complaint on ISO-NE and the New England Power Pool.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before October 18, 2001. Protests will be considered by the Commission in determining the appropriate action to be taken, but will not serve to make protestants parties to the proceeding. Any person wishing to become a party must file a motion to intervene. Answers to the complaint shall also be due on or before October 18, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25200 Filed 10-5-01; 8:45 am]

BILLING CODE 6717-01-P